DEPARTMENT OF ENERGY

Federal Energy Regulatory Commission

[Docket No. RT01-88-006]

Alliance Companies, et al; Notice of Filing

September 7, 2001.

Take notice that on August 31, 2001, pursuant to section 205 of the Federal Power Act, 16 U.S.C. 824d (2000), and section 35.13 of the regulations of the Federal Energy Regulatory Commission (“Commission”), 18 CFR 35.13, Ameren Services Company (on behalf of Union Electric Company and Central Illinois Public Service Company), American Electric Power Service Corporation (on behalf of Appalachian Power Company, Columbus Southern Power Company, Indiana Michigan Power Company, Kentucky Power Company, Kingsport Power Company, Ohio Power Company, and Wheeling Power Company), Consumers Energy Company and Michigan Electric Transmission Company, The Dayton Power and Light Company, The Detroit Edison Company and International Transmission Company, Exelon Corporation (on behalf of Commonwealth Edison Company and Commonwealth Edison Company of Indiana, Inc.), FirstEnergy Corp. (on behalf of American Transmission Systems, Inc., The Cleveland Electric Illuminating Company, Ohio Edison Company, Pennsylvania Power Company, and The Toledo Edison Company), Illinois Power Company, Northern Indiana Public Service Company, and Virginia Electric and Power Company (collectively, the “Alliance Companies”), tendered for filing proposed wholesale electric transmission rates for the Alliance Regional Transmission Organization (“Alliance RTO”), and the Alliance RTO open access transmission tariff (“OATT”).

The Alliance Companies seek Commission authorization of the proposed rates to be effective as of December 15, 2001, Day 1 of operations of the Alliance RTO (the “Transmission Service Date”). The Alliance Companies have revised the Alliance RTO OATT to reflect the outstanding compliance items, as described in the Alliance Companies' compliance filing submitted contemporaneously with this section 205 rate filing, as well as certain other changes. These additional changes generally are required to reflect the status of the Alliance RTO's expected operations on the Transmission Service Date and to assist customers using the OATT by creating greater consistency in the terms and conditions of the rate schedules applicable across all of the respective pricing zones.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before October 9, 2001 . Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-23146 Filed 9-14-01; 8:45 am]

BILLING CODE 6717-01-P